CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR) entitled the Application for the President's Higher Education Community Service Honor Roll to the Office of Management and Budget (OMB) for review and approval in accordance with the Paperwork Reduction Act of 1995, Pub. L. 104-13, (44 U.S.C. Chapter 35). Copies of this ICR, with applicable supporting documentation, may be obtained by calling the Corporation for National and Community Service, Mr. Robert Davidson at (202) 606-6906. Individuals who use a telecommunications device for the deaf (TTY-TDD) may call (202) 606-3472 between 8:30 a.m. and 5 p.m. eastern time, Monday through Friday.

ADDRESSES: Comments may be submitted, identified by the title of the information collection activity, to the Office of Information and Regulatory Affairs, Attn: Ms. Katherine Astrich, OMB Desk Officer for the Corporation for National and Community Service, by any of the following two methods within 30 days from the date of publication in this Federal Register:

(1) By fax to: (202) 395-6974, Attention: Ms. Katherine Astrich, OMB Desk Officer for the Corporation for National and Community Service; and

(2) Electronically by e-mail to: Katherine_T._Astrich@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on December 6, 2006. This comment period ended February 5, 2007. No comments were received. However, the Honor Roll's proposed new special focus area, college readiness services for underachieving disadvantaged youth, which was discussed in the earlier Notice, has received very positive support at several higher education community conferences over the last few months.

Description: The President's Higher Education Community Service Honor Roll and Awards program supports the President's Call to Service, the First Lady's Helping America's Youth initiative, and the Corporation's strategic goals, especially the goal of significantly increasing community service by college students. The Application for the President's Higher Education Community Service Honor Roll collects information from institutions of higher education about student community service activities, and—in this second year of the program—will include a special focus on educational and other college readiness services to underachieving youth in disadvantaged circumstances. Data from this application provide the basis for a national honor roll and awards program designed to promote awareness of higher education community service efforts and to inspire expanded and more effective service efforts in the future. This year's deadline for institutions to submit applications is July 31, 2007, based on information for the year ending June 30, 2007. It is expected that a similar application/ information collection activity will be repeated annually, with a similar annual deadline.

Type of Review: Revision.

Agency: Corporation for National and Community Service.

Title: Application for the President's Higher Education Community Service Honor Roll.

OMB Number: 3045-0102.

Agency Number: None.

Affected Public: All accredited U.S. degree-granting colleges and universities interested in being recognized for student community service activities.

Total Respondents: 1,000 estimated.

Frequency: Annual.

Average Time Per Response: 1 hour.

Estimated Total Burden Hours: 1,000 hours.

Total Burden Cost (capital/startup): None.

Total Burden Cost (operating/maintenance): None.

Dated: February 8, 2007.
Amy Cohen,
Director, Learn and Serve America.

[FR Doc. E7-2529 Filed 2-13-07; 8:45 am]

BILLING CODE 6050-$$-P